FEDERAL COMMUNICATIONS COMMISSION

Public Information Collections Approved by Office of Management and Budget

December 10, 2007.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Thomas Butler, Federal Communications Commission, (202) 418-1492 or via the Internet at Thomas.butler@fcc.gov.

SUPPLEMENTARY INFORMATION: OMB Control Number: 3060-0166.

OMB Approval Date: 11/28/2007.

Expiration Date: 11/30/2010.

Title: Part 42—Preservation of Records of Communications Common Carriers.

Form Number: N/A.

Estimated Annual Burdens: 56 responses; 112 total annual hours; 2 hours per response.

Needs and Uses: Part 42 prescribes the regulations governing the preservation of records of communications common carriers that are fully subject to the jurisdiction of the FCC. The requirements are necessary to ensure the availability of carrier records needed by Commission staff for regulatory purposes.

OMB Control Number: 3060-0715.

OMB Approval Date: 12/06/2007.

Expiration Date: 06/30/2008.

Title: Telecommunications Carriers' Use of Customer Proprietary Network Information (CPNI) and Other Customer Information, CC Docket No. 96-115.

Form Number: N/A.

Estimated Annual Burdens: 6,017 respondents; 350,704 hours; 58.29 hours per response.

Needs and Uses: On January 12, 2007, President George W. Bush signed into law the “Telephone Records and Privacy Protection Act of 2006,” which responded to the problem of “pretexting,” or seeking to obtain unauthorized access to telephone records, by making it a criminal offense subject to fines and imprisonment. In particular, pretexting is the practice of pretending to be a particular customer or other authorized person in order to obtain access to that customer's call detail or other private communications records. The Telephone Records and Privacy Protection Act of 2006 Act found that such unauthorized disclosure of telephone records is a problem that “not only assaults individual privacy but, in some instances, may further acts of domestic violence or stalking, compromise the personal safety of law enforcement officers, their families, victims of crime, witnesses, or confidential informants, and undermine the integrity of law enforcement investigations.”

On April 2, 2007, the Commission released the Report and Order and Further Notice of Proposed Rulemaking, Implementation of the Telecommunications Act of 1996: Telecommunications Carriers' Use of Customer Proprietary Network Information and Other Customer Information; IP-Enabled Services, CC Docket No. 96-115, WC Docket No. 04-36, FCC 07-22, which responded to the practice of pretexting by strengthening its rules to protect the privacy of customer proprietary network information (CPNI) that is collected and held by providers of communications services. Section 222 of the Communications Act requires telecommunications carriers to take specific steps to ensure that CPNI is adequately protected from unauthorized disclosure. Pursuant to section 222, the Commission adopted new rules focused on the efforts of providers of communications services to prevent pretexting. These rules require providers of communications services to adopt additional privacy safeguards that, the Commission believes, will sharply limit pretexters' ability to obtain unauthorized access to the type of personal customer information from carriers that the Commission regulates. In addition, in furtherance of the Telephone Records and Privacy Protection Act of 2006, the Commission's rules help ensure that law enforcement will have necessary tools to investigate and enforce prohibitions on illegal access to customer records.

Federal Communications Commission.
Marlene H. Dortch,
Secretary.

[FR Doc. E7-24510 Filed 12-19-07; 8:45 am]

BILLING CODE 6712-01-P